DEPARTMENT OF TRANSPORTATION

Federal Aviation Administration

14 CFR Part 73

[Docket No. FAA-2001-10286; Airspace Docket No. 01-AEA-11]

RIN 2120-AA66

Amendment of Restricted Area 5201, Fort Drum, NY

AGENCY: Federal Aviation Administration (FAA), DOT.

ACTION: Final rule.

SUMMARY: This action amends the designated altitudes for Restricted Area R-5201 (R-5201), Fort Drum, NY, by designating the ceiling of the airspace at 23,000 feet mean sea level (MSL) on a year-round basis. Currently, the upper altitude limit for the restricted area changes from 23,000 feet MSL for the period April 1 through September 30 to 20,000 feet MSL for the period October 1 through March 31. Increased training requirements at Fort Drum have resulted in a regular need for restricted airspace up to 23,000 feet MSL throughout the year. This modification does not alter the current boundaries, time of designation, or activities conducted in R-5201.

EFFECTIVE DATE: 0901 UTC, April 18, 2002.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

On October 19, 2001, the FAA proposed to amend 14 CFR part 73 to modify the designated altitudes for Restricted Area R-5201, Fort Drum, NY (66 FR 53132). Interested parties were invited to participate in this rulemaking by submitting comments. No comments were received.

The Rule

This action amends 14 CFR part 73 by changing the designated altitudes of R-5201, Fort Drum, NY. Specifically, this action changes the designated altitudes from “Surface to 23,000 feet MSL, April 1 through September 30; surface to 20,000 feet MSL, October 1 through March 31” to “Surface to 23,000 feet MSL.” This amendment deletes the seasonal changes to the upper altitude limit of R-5201 and establishes 23,000 feet MSL as the permanent upper altitude limit on a year-round basis. The 20,000 feet MSL limit for 6 months of the year adversely affects military training at Fort Drum and requires units to alter their training profiles when the 23,000 feet MSL ceiling is not available. This limitation is disruptive to training continuity and precludes the most cost-effective accomplishment of training activities. The U.S. Army requested this modification to better accommodate existing and forecast training requirements at Fort Drum. This action does not change the current boundaries, time of designation, or activities conducted within R-5201.

Section 73.52 of 14 CFR part 73 was republished in FAA Order 7400.8J, dated September 20, 2001.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA determined that this change applies to on-going military activities occurring between 20,000 feet MSL and 23,000 feet MSL, and not over noise-sensitive areas; that there will be no significant noise increase associated with this change; and no significant air quality impacts. The FAA further determined that this action does not trigger any extraordinary circumstances that would warrant further environmental review. The FAA concluded that this action is categorically excluded from further environmental analysis in accordance with FAA Order 1050.1D, Policies and Procedures for Considering Environmental Impacts; and the FAA/DOD Memorandum of Understanding concerning Special Use Airspace Environmental Actions, dated January 26, 1998.

List of Subjects in 14 CFR Part 73

Airspace, Navigation (air).

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.52 [Amended]

2. Section 73.52 is amended as follows:

* * * * *

R-5201 Fort Drum, NY [Amended]

By removing “Designated altitudes. Surface to 23,000 feet MSL, April 1 though September 30; surface to 20,000 feet MSL, October 1 through March 31” and inserting “Designated altitudes. Surface to 23,000 feet MSL.”

* * * * *

Issued in Washington, DC on February 6, 2002.
Reginald C. Matthews,
Manager, Airspace and Rules Division.

[FR Doc. 02-3530 Filed 2-12-02; 8:45 am]

BILLING CODE 4910-13-P